DEPARTMENT OF TRANSPORTATION

National Highway Traffic Safety Administration

49 CFR Part 541

[Docket No. NHTSA-2000-7331]

RIN 2127-AH78

Federal Motor Vehicle Theft Prevention Standard; Final Listing of Model Year 2001 High-Theft Vehicle Lines

AGENCY: National Highway Traffic Safety Administration (NHTSA), Department of Transportation.

ACTION: Final rule.

SUMMARY: This final rule announces NHTSA's determination for model year (MY) 2001 high-theft vehicle lines that are subject to the parts-marking requirements of the Federal motor vehicle theft prevention standard, and high-theft MY 2001 lines that are exempted from the parts-marking requirements because the vehicles are equipped with antitheft devices determined to meet certain statutory criteria pursuant to the statute relating to motor vehicle theft prevention.

EFFECTIVE DATE: The amendment made by this final rule is effective May 26, 2000.

FOR FURTHER INFORMATION CONTACT: Ms. Rosalind Proctor, Consumer Programs Division, Office of Planning and Consumer Programs, NHTSA, 400 Seventh Street, SW., Washington, DC 20590. Ms. Proctor's telephone number is (202) 366-0846. Her fax number is (202) 493-2290.

SUPPLEMENTARY INFORMATION: The Anti Car Theft Act of 1992, Pub. L. 102-519, amended the law relating to the parts-marking of major component parts on designated high-theft vehicle lines and other motor vehicles. The Anti Car Theft Act amended the definition of “passenger motor vehicle” in 49 U.S.C. 33101(10) to include a “multipurpose passenger vehicle or light duty truck when that vehicle or truck is rated at not more than 6,000 pounds gross vehicle weight.” Since “passenger motor vehicle” was previously defined to include passenger cars only, the effect of the Anti Car Theft Act is that certain multipurpose passenger vehicle (MPV) and light-duty truck (LDT) lines may be determined to be high-theft vehicles subject to the Federal motor vehicle theft prevention standard (49 CFR part 541).

The purpose of the theft prevention standard is to reduce the incidence of motor vehicle theft by facilitating the tracing and recovery of parts from stolen vehicles. The standard seeks to facilitate such tracing by requiring that vehicle identification numbers (VINs), VIN derivative numbers, or other symbols be placed on major component vehicle parts. The theft prevention standard requires motor vehicle manufacturers to inscribe or affix VINs onto covered original equipment major component parts, and to inscribe or affix a symbol identifying the manufacturer and a common symbol identifying the replacement component parts for those original equipment parts, on all vehicle lines selected as high-theft.

The Anti Car Theft Act also amended 49 U.S.C. 33103 to require NHTSA to promulgate a parts-marking standard applicable to major parts installed by manufacturers of “passenger motor vehicles (other than light duty trucks) in not to exceed one-half of the lines not designated under 49 U.S.C. 33104 as high-theft lines.” Section 33103(a) further directed NHTSA to select only lines not designated under section 33104 of this title as high theft lines. NHTSA lists each of these selected lines in appendix B to part 541. Since section 33103 did not specify marking of replacement parts for below-median lines, the agency does not require marking of replacement parts for these lines. NHTSA published a final rule amending 49 CFR part 541 to include the definitions of MPV and LDT, and major component parts. See 59 FR 64164, December 13, 1995.

49 U.S.C. 33104(a)(3) specifies that NHTSA shall select high-theft vehicle lines, with the agreement of the manufacturer, if possible. Section 33104(d) provides that once a line has been designated as likely high-theft, it remains subject to the theft prevention standard unless that line is exempted under section 33106. Section 33106 provides that a manufacturer may petition to have a high-theft line exempted from the requirements of section 33104, if the line is equipped with an antitheft device as standard equipment. The exemption is granted if NHTSA determines that the antitheft device is likely to be as effective as compliance with the theft prevention standard in reducing and deterring motor vehicle thefts.

The agency annually publishes the names of the lines which were previously listed as high-theft, and the lines which are being listed for the first time and will be subject to the theft prevention standard beginning in a given model year. It also identifies those lines that are exempted from the theft prevention standard for a given model year under section 33104. Additionally, this listing identifies those lines (except light-duty trucks) in appendix B to part 541 that have theft rates below the 1990/1991 median theft rate but are subject to the requirements of this standard under section 33103.

On May 25, 1999, the final listing of high-theft lines for the MY 2000 vehicle lines was published in the Federal Register (64 FR 28110). The final listing identified five vehicle lines that were listed for the first time and became subject to the theft prevention standard beginning with the 2000 model year.

For MY 2001, the agency identified eight new vehicle lines that are likely to be high-theft lines, in accordance with the procedures published in 49 CFR part 542. The new lines are the Daewoo Musso (MPV), the Honda Acura MDX (MPV), the Kia Motors Rio and Optima, the Suzuki MPV (nameplate not available), the Toyota Highlander (MPV), the Toyota Lexus IS300 and the Toyota MR2 Spyder. In addition to these eight vehicle lines, the list of high-theft vehicle lines includes all lines previously designated as high-theft and listed for prior model years. Appendix A also has been amended to reflect a nameplate change for the Isuzu Amigo vehicle line to Isuzu Rodeo Sport beginning with MY 2001.

The list of lines that have been exempted by the agency from the parts-marking requirements of Part 541 includes high-theft lines newly exempted in full beginning with MY 2001. The four vehicle lines newly exempted in full are the Ford Mercury Sable, the General Motors Chevrolet Malibu, the Nissan Pathfinder and the Volkswagen Audi Allroad Quattro.

Subsequent to publishing the MY 2000 listing, the agency granted BMW of North America, Inc., an exemption from the parts-marking requirements of the theft prevention standard for its X5 vehicle line beginning with the 2000 model year. Therefore, the BMW X5 vehicle line has been added to Appendix A-I of this listing. Furthermore, Appendix A-I has been amended to reflect a nameplate change for the General Motors Chevrolet Lumina/Monte Carlo car line. The Chevrolet Lumina/Monte Carlo car line nameplate was changed to Chevrolet Impala/Monte Carlo beginning with MY 2000.

Appendix A-II has also been amended to reflect a MY 1994 nameplate change for the General Motors Cadillac Sixty Special to General Motors Cadillac Concours.

Additionally, since the agency granted Ford Motor Company an exemption from the parts-marking requirements for its Mercury Sable car line, it has been deleted from Appendix B.

The vehicle lines listed as being subject to the parts-marking standard have previously been designated as high-theft lines in accordance with the procedures set forth in 49 CFR part 542. Under these procedures, manufacturers evaluate new vehicle lines to conclude whether those new lines are likely to be high theft. The manufacturer submits these evaluations and conclusions to the agency, which makes an independent evaluation; and, on a preliminary basis, determines whether the new line should be subject to the parts-marking requirements. NHTSA informs the manufacturer in writing of its evaluations and determinations, together with the factual information considered by the agency in making them. The manufacturer may request the agency to reconsider the preliminary determinations. Within 60 days of the receipt of these requests, the agency makes its final determination. NHTSA informs the manufacturer by letter of these determinations and its response to the request for reconsideration. If there is no request for reconsideration, the agency's determination becomes final 45 days after sending the letter with the preliminary determination. Each of the new lines on the high-theft list has been the subject of a final determination under either 49 U.S.C. 33103 or 33104.

The vehicle lines listed as being exempt from the standard have previously been exempted in accordance with the procedures of 49 CFR part 543 and 49 U.S.C. 33106.

Similarly, the low-theft lines listed as being subject to the parts-marking standard have previously been designated in accordance with the procedures set forth in 49 U.S.C. 33103.

Therefore, NHTSA finds for good cause that notice and opportunity for comment on these listings are unnecessary. Further, public comment on the listing of selections and exemptions is not contemplated by 49 U.S.C. Chapter 331.

For the same reasons, since this revised listing only informs the public of previous agency actions and does not impose additional obligations on any party, NHTSA finds for good cause that the amendment made by this notice should be effective as soon as it is published in the Federal Register.

Regulatory Impacts

1. Costs and Other Impacts

NHTSA has analyzed this rule and determined that it is not “significant” within the meaning of the Department of Transportation's regulatory policies and procedures. The agency has also considered this notice under Executive Order 12866. As already noted, the selections in this final rule have previously been made in accordance with the provisions of 49 U.S.C. 33104, and the manufacturers of the selected lines have already been informed that those lines are subject to the requirements of 49 CFR part 541 for MY 2001. Further, this listing does not actually exempt lines from the requirements of 49 CFR part 541; it only informs the general public of all such previously granted exemptions. Since the only purpose of this final listing is to inform the public of actions for MY 2001 that the agency has already taken, a full regulatory evaluation has not been prepared.

2. Regulatory Flexibility Act

The agency has also considered the effects of this listing under the Regulatory Flexibility Act. I hereby certify that this rule will not have a significant economic impact on a substantial number of small entities. As noted above, the effect of this final rule is simply to inform the public of those lines that are already subject to the requirements of 49 CFR part 541 for MY 2001. The agency believes that the listing of this information will not have any economic impact on small entities.

3. Environmental Impacts

In accordance with the National Environmental Policy Act of 1969, the agency has considered the environmental impacts of this rule, and determined that it will not have any significant impact on the quality of the human environment.

4. Federalism

This action has been analyzed in accordance with the principles and criteria contained in Executive Order 12612, and it has been determined that this final rule does not have sufficient Federalism implications to warrant the preparation of a Federalism Assessment.

5. Civil Justice Reform

This final rule does not have a retroactive effect. In accordance with section 33118 when the Theft Prevention Standard is in effect, a State or political subdivision of a State may not have a different motor vehicle theft prevention standard for a motor vehicle or major replacement part. 49 U.S.C. 33117 provides that judicial review of this rule may be obtained pursuant to 49 U.S.C. 32909. Section 32909 does not require submission of a petition for reconsideration or other administrative proceedings before parties may file suit in court.

List of Subjects in 49 CFR Part 541

Administrative practice and procedure, Labeling, Motor vehicles, Reporting and recordkeeping requirements.

In consideration of the foregoing, 49 CFR Part 541 is amended as follows:

PART 541—[AMENDED]

1. The authority citation for Part 541 continues to read as follows:

Authority: 49 U.S.C. 33102-33104 and 33106; delegation of authority at 49 CFR 1.50.

2. In Part 541, Appendices A, A-I, A-II and B are revised to read as follows:

Appendix A to Part 541.—Lines Subject to the Requirements of This Standard
Manufacturer | Subject lines
ALFA ROMEO | Milano 161.
| 164.
BMW | Z3.
| 6 Car Line.
CONSULIER | Consulier GTP.
DAEWOO | Korando.
| Musso (MPV) ¹.
| Nubira.
DAIMLERCHRYSLER | Chrysler Cirrus.
| Chrysler Fifth Avenue/Newport.
| Chrysler Laser.
| Chrysler LeBaron/Town & Country.
| Chrysler LeBaron GTS.
| Chrysler's TC.
| Chrysler New Yorker Fifth Avenue.
| Chrysler Sebring.
| Chrysler Town & Country.
| Dodge 600.
| Dodge Aries.
| Dodge Avenger.
| Dodge Colt.
| Dodge Daytona.
| Dodge Diplomat.
| Dodge Lancer.
| Dodge Neon.
| Dodge Shadow.
| Dodge Stratus.
| Dodge Stealth.
| Eagle Summit.
| Eagle Talon.
| Jeep Cherokee (MPV).
| Jeep Grand Cherokee (MPV).
| Jeep Wrangler (MPV).
| Plymouth Caravelle.
| Plymouth Colt.
| Plymouth Laser.
| Plymouth Gran Fury.
| Plymouth Neon.
| Plymouth Reliant.
| Plymouth Sundance.
| Plymouth Breeze.
FERRARI | Mondial 8.
| 328.
FORD | Ford Aspire.
| Ford Escort.
| Ford Probe.
| Ford Thunderbird.
| Lincoln Continental.
| Lincoln Mark.
| Lincoln Town Car.
| Mercury Capri.
| Mercury Cougar.
| Merkur Scorpio.
| Merkur XR4Ti.
GENERAL MOTORS | Buick Electra.
| Buick Reatta.
| Buick Skylark.
| Chevrolet Malibu.
| Chevrolet Nova.
| Chevrolet Blazer (MPV).
| Chevrolet Prizm.
| Chevrolet Venture (MPV).
| Chevrolet S-10 Pickup.
| Geo Storm.
| Chevrolet Tracker (MPV).
| GMC Jimmy (MPV).
| GMC Sonoma Pickup.
| Oldsmobile Achieva (MYs 1997-1998).
| Oldsmobile Bravada.
| Oldsmobile Cutlass.
| Oldsmobile Cutlass Supreme (MYs 1988-1997).
| Oldsmobile Intrigue.
| Pontiac Fiero.
| Pontiac Grand Prix.
| Saturn Sports Coupe.
HONDA | Accord.
| CRV (MPV).
| Odyssey (MPV).
| Passport.
| Prelude.
| S2000.
| Acura Integra.
| Acura MDX (MPV) ¹.
HYUNDAI | Accent.
| Sonata.
| Tiburon.
ISUZU | Amigo ².
| Impulse.
| Rodeo.
| Rodeo Sport.
| Stylus.
| Trooper/Trooper II.
| VehiCross (MPV).
JAGUAR | XJ.
KIA MOTORS | Optima ¹.
| Rio¹.
| S-II.
LOTUS | Elan.
MASERATI | Biturbo.
| Quattroporte.
| 228.
MAZDA | 626.
| MX-3.
| MX-5 Miata.
| MX-6.
MERCEDES-BENZ | 190 D.
| 190 E.
| 260E (1987-1989).
| 300 SE (1988-1991).
| 300 TD (1987).
| 300 SDL (1987).
| 300 SEL.
| 350 SDL (1990-1991).
| 420 SEL (1987-1991).
| 560 SEL (1987-1991).
| 560 SEC (1987-1991).
| 560 SL.
MITSUBISHI | Cordia.
| Eclipse.
| Mirage.
| Montero (MPV).
| Montero Sport (MPV).
| Tredia.
| 3000GT.
NISSAN | 240SX.
| Sentra/200SX.
| Xterra.
PEUGEOT | 405.
PORSCHE | 924S.
SUBARU | XT.
| SVX.
| Forester.
| Legacy.
SUZUKI | X90.
| MPV(nameplate not determined) ¹.
| Sidekick (MYs 1997-1998).
| Vitara (MPV).
TOYOTA | Toyota 4-Runner (MPV).
| Toyota Avalon.
| Toyota Camry.
| Toyota Celica.
| Toyota Corolla/Corolla Sport.
| Toyota Echo.
| Toyota Highlander (MPV) ¹.
| Toyota MR2.
| Toyota MR2 Spyder ¹.
| Toyota RAV4 (MPV).
| Toyota Sienna (MPV).
| Toyota Tercel.
| Lexus IS300 ¹.
| Lexus RX300 (MPV).
VOLKSWAGEN | Audi Quattro.
| Volkswagen Scirocco.
¹1 Lines added for MY 2001.
²1 Renamed Isuzu Rodeo Sport beginning with MY 2001.

Appendix A-I—High-Theft Lines With Antitheft Devices Which Are Exempted From the Parts-Marking Requirements of This Standard Pursuant to 49 CFR Part 543
Manufacturer | Subject lines
AUSTIN ROVER | Sterling.
BMW | X5.¹.
| 3 Car Line.
| 5 Car Line.
| 7 Car Line.
| 8 Car Line.
DAIMLERCHRYSLER | Chrysler Conquest.
| Chrysler Imperial.
FORD | Mustang.
| Mercury Sable.²
| Taurus.
GENERAL MOTORS | Buick LeSabre.
| Buick Park Avenue.
| Buick Regal/Century.
| Buick Riviera.
| Cadillac Allante.
| Cadillac Deville.
| Cadillac Seville.
| Chevrolet Cavalier.
| Chevrolet Corvette.
| Chevrolet Impala/Monte Carlo.
| Chevrolet Lumina/Monte Carlo (MYs 1996-1999).³
| Chevrolet Malibu.²
| Oldsmobile Alero.
| Oldsmobile Aurora.
| Oldsmobile Toronado.
| Pontiac Bonneville.
| Pontiac Grand Am.
| Pontiac Sunfire.
HONDA | Acura CL.
| Acura Legend (MYs 1991-1996).
| Acura NSX.
| Acura RL.
| Acura SLX.
| Acura TL.
| Acura Vigor (MYs 1992-1995).
ISUZU | Impulse (MYs 1987-1991).
JAGUAR | XK8.
MAZDA | 929.
| RX-7.
| Millenia.
MERCEDES-BENZ | 124 Car Line (the models within this line are):.
| 260E.
| 300D.
| 300E.
| 300CE.
| 300TE.
| 400E.
| 500E.
| 129 Car Line (the models within this line are):.
| 300SL.
| 500SL.
| 600SL.
| SL320.
| SL500.
| SL600.
| 202 Car Line (the models within this line are):.
| C220.
| C230.
| C280.
| C36.
| C43.
MITSUBISHI | Galant.
| Starion.
| Diamante.
NISSAN | Nissan Altima.
| Nissan Maxima.
| Nissan Pathfinder.²
| Nissan 300ZX.
| Infiniti I30.
| Infiniti J30.
| Infiniti M30.
| Infiniti QX4.
| Infiniti Q45.
PORSCHE | 911.
| 928.
| 968.
| Boxster.
SAAB | 900.
| 9000.
TOYOTA | Toyota Supra.
| Toyota Cressida.
| Lexus ES.
| Lexus GS.
| Lexus LS.
| Lexus SC.
VOLKSWAGEN | Audi 5000S.
| Audi 100/A6.
| Audi 200/S4/S6.
| Audi Allroad Quattro (MPV).²
| Audi Cabriolet.
| Volkswagen Cabrio.
| Volkswagen Corrado.
| Volkswagen Golf/GTI.
| Volkswagen Jetta/Jetta III.
| Volkswagen Passat.
¹ Exempted in full beginning with MY 2000.
² Exempted in full beginning with MY 2001.
³ Renamed Impala/Monte Carlo beginning with MY 2000.

Appendix A-II to Part 541.—High-Theft Lines With Antitheft Devices Which Are Exempted In-Part From the Parts-Marking Requirements of This Standard Pursuant to 49 CFR Part 543
Manufacturers | Subject lines | Parts to be marked
GENERAL MOTORS | Cadillac Eldorado | Engine, Transmission.
| Cadillac Concours | Engine, Transmission.
| Oldsmobile Ninety-Eight | Engine, Transmission.
| Pontiac Firebird | Engine, Transmission.
| Chevrolet Camaro | Engine, Transmission.
| Oldsmobile Eighty-Eight | Engine, Transmission.

Appendix B—Passenger Motor Vehicle Lines (Except Light-Duty Trucks) With Theft Rates Below the 1990/91 Median Theft Rate, Subject to the Requirements of This Standard
Manufacturer | Subject lines
Ford | Crown Victoria.
| Mercury Grand Marquis.
General Motors | Chevrolet Astro (MPV).
| GMC Safari (MPV).
Honda | Civic.

Issued on: May 22, 2000.
Stephen R. Kratzke,
Associate Administrator for Safety Performance Standards.

[FR Doc. 00-13273 Filed 5-25-00; 8:45 am]

BILLING CODE 4910-59-P